FEDERAL COMMUNICATIONS COMMISSION

Notice of Public Information Collection(s) Being Reviewed by the Federal Communications Commission, Comments Requested

April 27, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before July 5, 2005. If you anticipate that you will be submitting comments, but find it difficult to do so within the period of time allowed by this notice, you should advise the contact listed below as soon as possible.

ADDRESSES: Direct all Paperwork Reduction Act (PRA) comments to Les Smith, Federal Communications Commission, Room 1-A804, 445 12th Street, SW., Washington, DC 20554 or via the Internet to Leslie.Smith@fcc.gov.

FOR FURTHER INFORMATION CONTACT: For additional information or copies of the information collection(s), contact Les Smith at (202) 418-0217 or via the Internet at Leslie.Smith@fcc.gov.

SUPPLEMENTARY INFORMATION: OMB Control Number: 3060-0065.

Title: Application for New or Modified Radio Stations Authorization Under Part 5 of the FCC Rules—Experimental Radio Service, FCC Form 442.

Form Number: FCC 442.

Type of Review: Revision of a currently approved collection.

Respondents: Business or other for-profit; Not-for-profit institutions; and State, Local or Tribal Government.

Number of Respondents: 200.

Estimated Time per Response: 4 hours.

Frequency of Response: On occasion reporting requirements.

Total Annual Burden: 1,120 hours.

Total Annual Cost: $16,500.

Privacy Impact Assessment: No impact(s).

Needs and Uses: On August 23, 2003, the Commission released an Order, Amendment of Part 5 of the Commission's Rules to Require Electronic Filing of Applications for Experimental Radio Licenses and Authorizations, FCC 03-207. The Order was published in the Federal Register on October 15, 2003 (68 FR 59335). Mandatory electronic filing of applications for Experimental Radio licenses, including FCC Form 442 commenced on January 1, 2004. This change is reflected in the amendments to part 5 of the Commission's rules, 47 CFR 5.1-5.125.

Applicants that require an FCC license to operate a new or modified experimental radio station must file FCC Form 442, as required by 47 CFR 5.55 (a), (b), and (c) and 5.59 of FCC Rules. The FCC's information technician and engineers use the data supplied by applicants in FCC Form 442 to determine: (1) If the applicant is eligible for an experimental license; the purpose of the experiment; compliance with the requirements of part 5 of the FCC Rules; and (2) if the proposed operation will cause interference to existing operations. Thus, the FCC cannot grant an experimental license without the information contained on this form.

Federal Communications Commission.
Marlene H. Dortch,
Secretary.

[FR Doc. 05-8891 Filed 5-3-05; 8:45 am]

BILLING CODE 6712-01-P